DEPARTMENT OF TRANSPORTATION

Federal Aviation Administration

[Docket No. 2025-0699]

Agency Information Collection Activities: Requests for Comments; Clearance of New Approval of Information Collection: Expedited Special Government Interest (SGI) Waiver or Authorization for Unmanned Aerial Systems (UAS) Operations

AGENCY: Federal Aviation Administration (FAA), DOT.

ACTION: Notice and request for comments.

SUMMARY: This is to provide the public with a 60-day notice on the intent to obtain approval of a form as required by the Paperwork Reduction Act. The Federal Aviation Administration (FAA) is responsible for ensuring the safe operation of all aircraft, including Unmanned Aerial Systems (UAS). This includes issuing Certificates of Authorization (COAs) for certain UAS operations and imposing airspace restrictions to address national security, hazard response, Very Important Person (VIP) movements, firefighting efforts, and other purposes mandated by law or regulation. The information on the form will enable the FAA to determine whether a UAS operator should be granted permission to operate within restricted airspace for emergency situations. Such exceptions may support critical public-interest activities, including search and rescue, media-pool operations, utility restoration, law enforcement, border operations, firefighting, and similar efforts.

DATES: Written comments should be submitted by August 8, 2025.

ADDRESSES: Please send written comments:

By Electronic Docket: www.regulations.gov (Enter docket number into search field).

By mail: Nicholas Torgerson, Federal Aviation Administration, AJR-223, 800 Independence Ave. SW, Washington, DC 20591.

FOR FURTHER INFORMATION CONTACT: Nicholas Torgerson, by email at: nicholas.d.torgerson@faa.gov; phone: 202-267-6376, Lalesh Nagy, by email at: lalesh.nagy@faa.gov; phone: 202-999-2700, Mirna Meyer, by email at: mirna.meyer@faa.gov; phone: 540-422-4226.

SUPPLEMENTARY INFORMATION:

Public Comments Invited: You are asked to comment on any aspect of this information collection, including: (a) Whether the proposed collection of information is necessary for FAA's performance; (b) the accuracy of the estimated burden; (c) ways for FAA to enhance the quality, utility and clarity of the information collection; and (d) ways that the burden could be minimized without reducing the quality of the collected information. The agency will summarize and/or include your comments in the request for Office of Management and Budget (OMB's) clearance of this information collection.

OMB Control Number: 2120-XXX.

Title: Expedited SGI Waiver or Authorization for UAS Operations.

Form Numbers: FAA Request Form for Expedited SGI Waiver or Authorization for UAS Operations.

Type of Review: New of an information collection.

Background: When a UAS operator requests a special government interest (SGI) waiver they must go through the SGI process. The UAS operator must have an existing Part 107 Remote Pilot with a current certificate, or must have an existing Certificate of Waiver or Authorization (COA) to fly the UAS. To submit a waiver through this process, fill out the Emergency Operation Request Form and send it to the FAA's System Operations Support Center (SOSC). If approved, the FAA will add an amendment to the existing COA or Remote Pilot Certificate that authorizes the UAS pilot to fly under certain conditions for the specified operation. If denied, operators should not fly outside the provisions of their existing COA or part 107. Operators have the option to amend their requests.

Typically, UAS operators request exceptions through the Airspace Access Program (AAP). However, in the event that AAP becomes unavailable, a backup method is necessary to manually document exception requests. The form to support this backup method will gather essential information to evaluate whether: (1) the requester has a valid purpose for the waiver; (2) the proposed waiver can be executed safely; and (3) the requester holds the appropriate licensing, COA, or credentials.

Respondents: 300 UAS operators.

Frequency: Information is collected on occasion.

Estimated Average Burden per Response: 15 minutes.

Estimated Total Annual Burden: 75 hours.

Issued in Washington, DC, on May 28, 2025.
Lalesh K. Nagy,
Management & Program Analyst, System Operations Security, System Operations Services, AJR-223.

[FR Doc. 2025-09955 Filed 6-6-25; 8:45 am]

BILLING CODE 4910-13-P